DEPARTMENT OF LABOR

Employment and Training Administration

Public Meeting; Federal Committee on Registered Apprenticeship

AGENCY: Employment and Training Administration, Labor.

ACTION: Notice of meeting.

SUMMARY: Pursuant to section 10 of the Federal Advisory Committee Act (Pub. L. 92-463; 5 U.S.C. APP. 1), notice is hereby given of a meeting of the Federal Committee on Registered Apprenticeship (FCRA).

Time and Date: The meeting will begin at 9:00 a.m. Thursday, August 17, 2000, and will continue until approximately 5 p.m. The meeting will reconvene at 9:00 a.m. on Friday, August 18, 2000, and will continue until approximately 12 noon.

Place: The Hilton Milwaukee Center, 509 West Wisconsin Avenue, Milwaukee, Wisconsin 53203.

FOR FURTHER INFORMATION CONTACT: Mr. Anthony Swoope, Administrator, Office of Apprenticeship Training, Employer and Labor Services, Employment and Training Administration, U.S. Department of Labor, Room N-4649, 200 Constitution Avenue, NW, Washington, D.C. 20210. Telephone: (202) 693-2806, x-149 (this is not a toll-free number).

Matters to be Considered: The agenda will focus on the following topics:

(1) Reports on the Federal Committee on Registered Apprenticeship Work Groups

Marketing

Quality

Diversity

Resources/Data

Legislative

(2) Progress Report on Apprenticeship Training, Employer and Labor Services/Bureau of Apprenticeship and Training activities

(3) Progress Report on National Association State and Territorial Apprenticeship Directors

(4) Progress Report on National Association of Government Labor Officials

(5) Progress Report on National Skill Standards Board

(6) Next Meeting Dates and Location

(7) Public Comment

Status: Members of the public are invited to attend the proceedings. Individuals with disabilities should contact Marion Winters at (202) 219-5921 no later than August 8, 2000, if special accommodations are needed.

Any member of the public who wishes to file written data or comments pertaining to the agenda may do so by sending it to Mr. Anthony Swoope, Administrator, Office of Apprenticeship Training, Employer and Labor Services, Employment and Training Administration, U.S. Department of Labor, Room N-4649, 200 Constitution Avenue, NW, Washington, D.C. 20210. Such submissions should be sent by August 8, 2000, to be included in the record for the meeting.

Any member of the public who wishes to speak at the meeting should indicate the nature of the intended presentation and the amount of the time needed by furnishing a written statement to the Designated Federal Official by August 8, 2000. The chairperson will announce at the beginning of the meeting the extent to which time will permit the granting of such request.

Dated: Signed at Washington, D.C., this 19th day of July 2000.
Raymond L. Bramucci,
Assistant Secretary of Employment and Training.

[FR Doc. 00-18774 Filed 7-24-00; 8:45 am]

BILLING CODE 4510-30-M